MERIT SYSTEMS PROTECTION BOARD

Agency Information Collection Activities; Proposed Collection

AGENCY: Merit Systems Protection Board.

ACTION: Notice.

SUMMARY: In compliance with the Paperwork Reduction Act (PRA), the U.S. Merit Systems Protection Board (MSPB) announces that an Information Collection Request (ICR) is to be forwarded to the Office of Management and Budget (OMB) for review and approval in accordance with the procedures prescribed in 5 CFR 1320.12. This is a request for a new collection. The ICR describes the nature of the information collection and its estimated burden and cost. On March 6, 2008 (Federal Register Volume 73, Number 45, page 12220), MSPB sought comments on this ICR pursuant to 5 CFR 1320.8(d). MSPB received only one comment.

DATES: Comments must be received on or before June 23, 2008.

ADDRESSES: Submit written comments on the collection of information to the Office of Management and the Budget, care of Brenda Aguilar at baguilar@omb.eop.gov or by fax at (202) 395-6974. You may also submit comments to the MSPB via e-mail to sharon.roth@mspb.gov (please include Employee Surveys in the subject line). You also may mail or fax comments to Sharon Roth, U.S. Merit Systems Protection Board, Suite 500, 1615 M Street, NW., Washington, DC 20419. Fax: (202) 653-7211.

FOR FURTHER INFORMATION CONTACT: Sharon Roth by phone on 202-653-6772, ext. 1340, by FAX on 202-653-7211, or by e-mail at sharon.roth@mspb.gov. You may contact Ms. Roth via V/TDD at 1-800-877-8339.

SUPPLEMENTARY INFORMATION: Proposed Project: Disciplinary Process within Agencies. As part of its purpose, MSPB is responsible for conducting studies of the Federal civil service to ensure that all Federal government agencies follow merit systems practices and avoid prohibited personnel practices. To support this research agenda, MSPB periodically conducts surveys of samples of Federal employees on a variety of topics. To obtain insight into the perspectives of management and management advisors regarding Federal disciplinary processes, MSPB is requesting OMB approval to conduct surveys of two groups. All surveys will be completed within two years.

MSPB originally proposed sending surveys to (1) proposing officials for discipline, (2) deciding officials for discipline, and (3) human resources advisors on disciplinary actions. However, as discussed below, MSPB has determined that a survey for human resources advisors for this topic will not be an efficient use of resources. The surveys of proposing and deciding officials will ask respondents to share their experiences conducting suspensions of 14 days or less and removal actions, including their level of involvement in decisions made, their use of alternative discipline, the nature of the conduct that led to the action, the role of performance in conduct based actions, and the quality of related training they received. Respondents will be selected based upon disciplinary and adverse actions recorded in the Central Personnel Data File (CPDF).

The single commenter recommended that the MSPB include a survey of agency legal counselors, as these individuals interact with proposing officials, deciding officials, and human resources advisors. We agree that agency legal advisors may frequently play an important role in the process of disciplining employees. Human resources advisors also play an important role. For this reason, both the proposing and deciding official surveys will include questions regarding the respondent's interactions with human resources as well as interactions with a legal advisor when such an advisor was used. However, as the focus of this study is the experience of the proposing and deciding officials, we have determined that surveying human resources and legal advisors would not be an optimal use of resources. In past studies on similar topics, such as agencies' use of the probationary period, the MSPB has used focus groups of human resources specialists to obtain additional insight into management activities beyond that provided by the supervisors who respond to the survey. If MSPB determines it is warranted for this study, one or more focus groups of human resources specialists, attorney advisors, or both, may be utilized.

Burden Statement: The annual public reporting and recordkeeping burden for this collection of information is estimated to average 0.50 hours per respondent.

Respondents/Affected Entities: Participants will be randomly drawn from multiple agencies that conducted a large number of removal actions in the years preceding the sample being drawn. Both removal actions and suspensions of 14 days or less will be the subject of the surveys. For each personnel action, there will be two respondents (the proposing official and the deciding official).

Estimated Number of Respondents: 5400.

Frequency of Response: Once for most respondents. (If a party was involved in implementing multiple disciplinary or adverse actions, there is a potential to receive more than one survey.)

Estimated Total Annual Hour Burden: 2,700.

William D. Spencer,
Clerk of the Board.

[FR Doc. E8-11611 Filed 5-22-08; 8:45 am]

BILLING CODE 7400-01-P